ENVIRONMENTAL PROTECTION AGENCY

40 CFR Part 180

[EPA-HQ-OPP-2017-0006; FRL-9972-17]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before March 29, 2018.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Michael Goodis, Registration Division (7505P), main telephone number: (703) 305-7090; email address: RDFRNotices@epa.gov, The mailing address for each contact person is: Office of Pesticide Programs, Environmental Protection Agency, 1200 Pennsylvania Ave. NW, Washington, DC 20460-0001.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing its receipt of several pesticide petitions filed under section 408 of the Federal Food, Drug, and Cosmetic Act (FFDCA), 21 U.S.C. 346a, requesting the establishment or modification of regulations in 40 CFR part 180 for residues of pesticide chemicals in or on various food commodities. The Agency is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

Amended Tolerances

1. PP 7F8552. (EPA-HQ-OPP-2017-0234 Syngenta Crop Protection, LLC, P.O. Box 18300, Greensboro, NC 27419-18300, requests to amend the tolerance in 40 CFR part 180.565 for residues of the insecticide, thiamethoxam, {3-[(2-chloro-5-thiazolyl)methyl]tetrahydro-5-methyl-N-nitro-4H-1,3,5-oxadiazin-4-imine} (CAS Reg. No. 153719-23-4) and its metabolite[N-(2-chloro-thiazol-5-ylmethyl)-N′-methyl-N′-nitro-guanidine on the grain, cereal, group 15, except barley at 0.02 parts per million (ppm) by establishing individual tolerances in or on buckwheat, grain at 0.9 ppm; corn, field grain at 0.02 ppm; oat, grain at 0.9 ppm; rice, grain at 6 ppm; rice, straw at 2 ppm; rye, grain at 0.9 ppm; sorghum, grain at 0.6; sorghum, grain forage at 0.9 ppm; sorghum, sweet, stalk at 0.7 ppm; triticale grain at 0.9 ppm; wheat, bran at 0.5 ppm; wheat, germ at 0.5 ppm; wheat, grain at 0.5 ppm. In addition, Syngenta requests to amend existing tolerances in 40 CFR 180.565 for residues of the insecticide, thiamethoxam, {3-[(2-chloro-5 thiazolyl)methyl]tetrahydro-5-methyl-N-nitro-4H-1,3,5-oxadiazin-4-imine} (CAS Reg. No. 153719-23-4) and its metabolite[N-(2-chloro-thiazol-5-ylmethyl)-N′-methyl-N′-nitro-guanidine as follows: Alfalfa, forage from 0.05 to 10 ppm; alfalfa, hay from 0.12 to 8 ppm; aspirated grain fractions from 2.0 to 2.5 ppm; barley, hay from 0.40 to 1.5 ppm; barley, grain from 0.4 to 0.9 ppm; barley, straw from 0.40 to 3 ppm; corn, field, forage from 0.10 to 0.6 ppm; corn, field, stover from 0.05 to 1.0 ppm; corn, pop, forage from 0.10 to 0.6 ppm; corn, pop, stover from 0.05 to 1.0 ppm; corn, sweet forage from 0.10 to 5 ppm; corn, sweet, kernel plus cob with husks removed from 0.02 to 0.03 ppm; corn, sweet, stover from 0.05 to 4 ppm; potato from 0.25 to 0.15 ppm; sorghum, grain, stover from 0.02 to 1.5 ppm; wheat, forage from 0.50 to 3 ppm; wheat, hay from 0.02 to 8 ppm; and wheat, straw from 0.02 to 6 ppm. The liquid chromatography with either UV or MS detections is used to measure and evaluate the chemical. Contact: RD.

2. PP 7F8633. (EPA-HQ-OPP-2017-0530). Bayer CropScience LP2, T.W. Alexander Dr., Research Triangle Park, NC 27709, requests to amend the tolerance in 40 CFR 180.555 for residues of the fungicide, trifloxystrobin, in or on grain, aspirated fractions at 15 ppm. Either gas chromatography with nitrogen-phosphorus detection, or liquid chromatography/mass spectrometry/mass spectrometry (LC/MS/MS) are used to measure and evaluate the chemical trifloxystrobin and the free form of its acid metabolite CGA-321113 ((E,E)-methoxyimino-[2-[1-(3-trifluoromethyl-phenyl)-ethylideneaminooxymethyl]-phenyl]acetic acid). Contact: RD.

New Tolerance Exemptions for Inerts (Except PIPS)

1. PP IN-11023. (EPA-HQ-OPP 2017-0666) Lewis & Harrison, LLC, 122 C Street NW, Suite 505, Washington, DC 20001, on behalf of BASF Corporation, 100 Park Avenue, Florham Park, NJ 07932 requests to establish an exemption from the requirement of a tolerance for residues of poly(oxy-1,2-ethanediyl), α-(1-oxoalkyl)-ω-methoxy-, where the alkyl chain contains a minimum of six and a maximum of 18 carbons and the oxyethylene content is 3-13 moles (CAS Reg. Nos. 53100-65-5, 194289-64-0- 34398-00-0, 9006-27-3, 32761-35-6, 53467-81-5, 518299-31-5, 34397-99-4) when used as a stabilizer and solubilizing agent in pesticide formulations applied to growing crops or raw agricultural commodities after harvest at a maximum concentration in pesticide formulation of 25% by weight. The petitioner believes no analytical method is needed because it is not required for the establishment of a tolerance exemption for inert ingredients. Contact: RD.

2. PP IN-11059. (EPA-HQ-OPP-2017-0574) Nutri Ag, Inc., 4740 N Interstate 35 E, Waxahachie, TX 75165 requests to establish an exemption from the requirement of a tolerance for residues of zinc oxide (CAS Reg. No. 1314-13-2) when used as an inert ingredient (stabilizer) in pesticide formulations applied to growing crops and raw agricultural commodities after harvest under 40 CFR 180.910. The petitioner believes no analytical method is needed because it is not required for an exemption from the requirement of a tolerance. Contact: RD.

New Tolerances for Non-Inerts

1. PP 7E8584. (EPA-HQ-OPP-2017-0505). Bayer CropScience, 2 T.W. Alexander Drive, Research Triangle Park, NC 27709, requests to establish a tolerance in 40 CFR part 180 for residues of spiromesifen; 2-oxo-3-(2,4,6-trimethylphenyl)-1-oxaspiro[4.4]non-3-en-4-yl 3,3-dimethylbutanoate, and its enol metabolite (4-hydroxy-3-(2,4,6-trimethylphenyl)-1-oxaspiro[4.4]non-3-en-2-one calculated as the stoichiometric equivalent of spiromesifen in or on the raw agricultural commodities Coffee bean, green at 0.20 parts per million (ppm); Coffee bean, roasted at 0.20 ppm; and Coffee, instant at 0.20 ppm. Spiromesifen residues are quantified in raw agricultural commodities by high pressure liquid chromatography/triple stage quadrupole mass spectrometry (LC/MS/MS) using the stable isotopically labeled analytes as internal standards. Contact: RD.

2. PP 6F8533. (EPA-HQ-OPP-2017-0235). Monsanto Company, 1300 I Street NW, Suite 450 East, Washington, DC 20005, requests to establish a tolerance in 40 CFR part 180 for residues of the herbicide acetochlor in or on Alfalfa, forage at 8 ppm, Alfalfa, hay at 20 ppm, Cattle, fat at 0.02 ppm, Cattle, kidney at 0.03 ppm, Cattle, meat at 0.02 ppm, Cattle, meat byproducts, except kidney at 0.02 ppm, Goat, fat at 0.02 ppm, Goat, kidney at 0.03 ppm, Goat, meat at 0.02 ppm, Goat, meat byproducts, except kidney at 0.02 ppm, Hog, kidney at 0.02 ppm, Horse, fat at 0.02 ppm, Horse, kidney at 0.03 ppm, Horse, meat at 0.02 ppm, Horse, meat byproducts, except kidney at 0.02 ppm, Milk at 0.02 ppm, Sheep, fat at 0.02 ppm, Sheep, kidney at 0.03 ppm, Sheep, meat at 0.02 ppm, Sheep, meat byproducts, except kidney at 0.02 ppm. The HPLC-OCED is used to measure and evaluate the chemical acetochlor. Contact: RD.

3. PP 7F8552. (EPA-HQ-OPP-2017-0234). Syngenta Crop Protection, LLC, P.O. Box 18300, Greensboro, NC 27419-18300, requests to establish a tolerance in 40 CFR part 180 for residues of the insecticide, thiamethoxam, {3-[(2-chloro-5-thiazolyl)methyl]tetrahydro-5-methyl-N-nitro-4H-1,3,5-oxadiazin-4-imine} (CAS Reg. No. 153719-23-4) and its metabolite[N-(2-chloro-thiazol-5-ylmethyl)-N′-methyl-N′-nitro-guanidine, in or on Alfalfa, seed at 1 ppm; and sugarcane at 0.01 ppm. Contact: RD.

4. PP 7F8595. (EPA-HQ-OPP-2017-0530). Bayer CropScience LP2, T.W. Alexander Dr., Research Triangle Park, NC 27709, requests to establish a tolerance in 40 CFR part 180 for residues of the fungicide, trifloxystrobin, in or on Flax, seed at 0.4 ppm. Either gas chromatography with nitrogen-phosphorus detection, or liquid chromatography/mass spectrometry/mass spectrometry (LC/MS/MS) are used to measure and evaluate the chemical trifloxystrobin and the free form of its acid metabolite CGA-321113 ((E,E)-methoxyimino-[2-[1-(3-trifluoromethyl-phenyl)-ethylideneaminooxymethyl]-phenyl]acetic acid). Contact: RD.

5. PP 7F8596. (EPA-HQ-OPP-2017-0531). Bayer CropScience LP2, T.W. Alexander Dr., Research Triangle Park, NC 27709, requests to establish a tolerance in 40 CFR part 180 for residues of the fungicide, prothioconazole, in or on Crop Subgroup 20A (Rapeseed Subgroup) at 0.15 ppm. The LC/MS/MS analytical method is used to measure and evaluate the chemical prothioconazole, 2-[2-(1-chlorocylcopropyl)-3-(2-chlorophenyl)-2-hydroxypropyl]-1,2-dihydro-3H-1,2,4-triazole-3-thion, including its metabolites and degradates, in or on the commodities with tolerances. Compliance with the tolerance levels specified is to be determined by measuring only prothioconazole and its metabolite prothioconazole-desthio, or α-(1-chlorocyclopropyl)-α-[(2-chlorophenyl)methyl]-1H-1,2,4-triazole-1-ethanol, calculated as parent in or on the commodity. Contact: RD.

6. PP 7F8614. EPA-HQ-OPP-2017-0572. Makhteshim Agan of North America (d/b/a ADAMA, 3120 Highlands Blvd., Suite 100, Raleigh, NC 27604), requests to establish a tolerance in 40 CFR part 180 for residues of the nematicide, fluensulfone, including its metabolites and degradates, in or on the following commodities: Citrus dried pulp at 0.4 ppm; Crop Group 10-10, citrus fruit at 0.15 ppm; peanut at 0.15 ppm; peanut, hay at 8.0 ppm; and peanut, meal at 0.30 ppm. The LC-MS/MS is used to measure and evaluate the metabolite Butene Sulfonic Acid (M-3627). Contact: RD.

7. PP 7F8615. (EPA-HQ-OPP-2017-0665). Gowan Company, P.O. Box 5569, Yuma, AZ 85366, requests to establish a tolerance in 40 CFR part 180 for residues of the fungicide, zoxamide, in or on crop subgroup 8-10B (pepper/eggplant subgroup) at 0.9 ppm. The Rohm and Haas Company Method Number 34-99-85 is used to measure and evaluate the chemical zoxamide, 3, 5-dichloro-N-(3-chloro-1-ethyl-1-methyl-2-oxopropyl)-4-methylbenzamide. Contact: RD.

8. PP 7F8624. (EPA-HQ-OPP-2017-0616). BASF Corporation, 26 Davis Drive, Research Triangle Park, NC 27709, requests to establish a tolerance in 40 CFR part 180 for residues of the fungicide, metrafenone, in or on mushrooms at 0.5 ppm. The LC/MS/MS is used to measure and evaluate the chemical metrafenone (3-bromo-6-methoxy-2-methylphenyl)(2,3,4-trimethoxy-6-methylphenyl)methanone. Contact: RD.

Authority: 21 U.S.C. 346a.

Dated: January 16, 2018.
Delores Barber,
Director, Information Technology and Resources Management Division, Office of Pesticide Programs.

[FR Doc. 2018-03989 Filed 2-26-18; 8:45 am]

BILLING CODE 6560-50-P